DEPARTMENT OF JUSTICE

National Institute of Corrections

Solicitation for a Cooperative Agreement—Production of Five Live Satellite/Internet Broadcasts (15 Hours)

AGENCY: National Institute of Corrections, U.S. Department of Justice.

ACTION: Solicitation for a Cooperative Agreement.

SUMMARY: The National Institute of Corrections (NIC) is soliciting proposals from organizations, groups, or individuals to enter into a cooperative agreement with NIC for up to 12 months beginning March 2013. Through this cooperative agreement, funds will be made available for the production of a minimum of five live satellite/Internet broadcasts. NIC will accept proposals for the creative use of 15 broadcast hours, using either NIC's traditional 3-hour long-form talk show broadcast format or other suggested formats for this work. All of the proposed satellite/Internet programs are 3-hour and/or 2-day, 6-hour (3 hours each day) interactive training broadcasts, featuring on- and off-air activities during nationwide broadcasts. This agreement also includes the production of pre-recorded video clips and screen captures that will enhance the instructional value of the broadcast or otherwise enhance the “look and feel” of visual materials, the set, or other items to be used during the broadcast.

DATES: Applications must be received by 4:00 p.m. (EDT) on Friday, March 8, 2013.

ADDRESSES: Mailed applications must be sent to: Director, National Institute of Corrections, 320 First Street NW., Room 5002, Washington, DC 20534. Applicants are encouraged to use Federal Express, UPS, or similar service to ensure delivery by the due date.

Hand-delivered applications should be brought to 500 First Street NW., Washington, DC 20534. At the front desk, dial 7-3106, extension 0, for pickup. Faxed applications will not be accepted. Only electronic applications submitted via www.grants.gov will be accepted.

FOR FURTHER INFORMATION CONTACT: A copy of this announcement can be downloaded from the NIC Web site at www.nicic.gov. All technical and/or programmatic questions concerning this announcement should be directed to Leslie LeMaster, Correctional Program Specialist, Academy Division, National Institute of Corrections. She may be reached by calling 800-995-6429, ext 6620, or by email at llemaster@bop.gov.

SUPPLEMENTARY INFORMATION:

Background: Satellite/Internet broadcasting is training/education between trainers/facilitators at one location and participants/students as they receive instruction at other locations via technology. NIC uses satellite broadcasting and the Internet economically to reach a larger and broader audience from federal, state, tribal, and local criminal justice agencies, as well as new partners and vested stakeholders who have a common interest in and/or contact with offender populations. Many of these audiences were previously hard to reach using traditional modes of training. In recent years, the vast majority of NIC's audience for broadcasts is accessing this service via streaming Internet connections. Depending upon broadcast subject matter, agencies may convene audiences in larger groups at downlink and/or connection sites.

Additionally, NIC, as a leader in correctional learning, continually seeks to use and integrate various forms of visual technology to support and enhance learning within its full continuum of training delivery strategies.

Purpose: The purpose of funding this initiative is to produce a minimum of five live satellite/Internet broadcasts. NIC will accept proposals for the creative use of 15 broadcast hours, using either NIC's traditional 3-hour long-form talk show broadcast format or other suggested formats for this work. All of the proposed satellite/Internet programs are 3-hour and/or 2-day, 6-hour (3 hours each day) interactive training broadcasts, featuring on- and off-air activities during nationwide broadcasts with the ultimate outcome of disseminating information and/or providing training on current and emergent information to the criminal justice community. Additionally, as part of this award, the agreement includes the production of pre-recorded video clips and screen captures that will enhance the instructional value of each broadcast or otherwise enhance the “look and feel” of visual materials, the set, or other items to be used during the broadcast. Examples of these items may include but are not limited to: The production of 12 to 15 short video vignettes (less than 3 minutes each) to support the content of the satellite/Internet broadcasts or to be used by NIC to enhance other training projects; up to 20 short 10- to 15-second video bumps designed around the theme of the broadcast to assist in transitions between content elements of the broadcast; custom designed visuals and props used during a specific broadcast to enhance the set design or otherwise support the content of the broadcast, and editing of video clips shot at the studio at the National Corrections Academy (typically one-on-one interview testimonials) for inclusion in broadcasts.

Scope of Work: To address the scope of work for this project, the following will be needed:

Producer Consultation and Creative Services: The producer for this project plays a key role in managing the project, but he/she must also possess a wide range of technical experience, including script writing, in the development and delivery of video broadcasts. The producer will (1) consult and collaborate with NIC's distance learning administrator (DLA) on program design, program coordination, design and field segments, and content development and (2) participate in/coordinate all planning meetings and planning activities that support each broadcast. A minimum of one face-to-face planning session will be held for each broadcast. Planning sessions typically last 2.5 days and are convened in the NIC Aurora office or at the Washington, DC, headquarters. Planning sessions for 2-day training broadcasts are 3.5 days in duration.

The producer must plan all other activities through telephone and various virtual online platforms (e.g., WebEx, which NIC provides) and consult and collaborate with NIC's DLA in the selection of talent for each broadcast. This will entail review of print and audiovisual materials, as well as phone conversations with potential talent. Face-to-face interviews typically will not be required.

The producer must work with each consultant/trainer to develop his/her content for delivery using the satellite/Internet format. This will entail regular email and telephone communication as well as regularly scheduled updates with key stakeholders on the broadcast team.

The producer will coordinate script and rundown development, graphic design, production elements, and rehearsals for each broadcast and use his/her professional expertise in designing creative ways to deliver satellite/Internet broadcasts.

The producer will develop detailed storyboards for each broadcast. Significant contribution to the development of the storyboard will come from designated content experts, the talent selected to appear in the broadcast, and NIC's DLA. NIC's DLA maintains final approval of all storyboards, video, and other materials produced or used in any broadcast. Please refer to “Content Development Countdown” attached to this announcement and also found on NIC's Web site at http://static.nicic.gov/UserShared/2013-02-11_content_dev_countdown_2012_-_for_coop_agree_sol_final_(1).pdf.

The producer will supervise camera and audio crews assigned to capture testimonial footage from leaders in the criminal justice field, who answer questions and provide general comment on an array of correctional topics. There will be two or more of these sessions during this agreement. Each shoot will entail 1- to 2-day video shoots at national correctional conferences where appropriate talent/audiences will be convening. The producer will work in concert with the NIC DLA and the NIC broadcast program coordinator(s) in creating testimonial questions for each upcoming broadcast topic to be capture at scheduled conferences/events.

Content Development Process: Having both quality content development and innovative as well as engaging content delivery, are critical components of successful live broadcasts and interactive distance training via satellite/Internet. Therefore, the content development process, as part of the storyboard/rundown development for each broadcast, must be carefully developed. The following process outlines the necessary steps the producer must take to ensure that the content of each broadcast is informative, innovative, and engaging. While each broadcast must be treated as a unique product, it is expected that the following processes will be followed. If adjustments or modifications need to be made to the process to meet the unique needs or circumstances of any of the broadcasts, approval of the DLA is required. Please refer to “Content Development Countdown” attached to this announcement and also found on NIC's Web site at http://static.nicic.gov/UserShared/2013-02-11_content_dev_countdown_2012_-_for_coop_agree_sol_final_(1).pdf.

Step One: Convene a 2.5-day planning meeting (or longer depending upon broadcast type) with the NIC DLA, an NIC representative/program manager(s) with content knowledge of the broadcast, and 4 to 5 other stakeholders vested in the topic being developed. (Attendees fees, travel, and per diem for the planning meeting and the rehearsal/broadcast days are paid for by NIC and are not part of this award.) Attendees are told they are helping develop ideas for a broadcast on a specific topic. Participation in the planning meeting does not necessarily mean that participants will be used as talent during the live broadcast. Note: The exception may be if some of the attendees have been specifically determined by NIC to be critical to the broadcast because of their specific expertise or background.

NIC's DLA will lead meetings with the broadcast host(s) and video producer in attendance. (Costs associated with the producer's participation in the planning meetings and the rehearsal/broadcast days for each broadcast are to be included within this award.) The meeting will (1) set learning objectives, (2) develop a theme, metaphor, or other creative hook that will set a context for the broadcast (The hook will support the content of the broadcast and will assist in determining the creative approaches through which that content can be delivered in a live broadcast.), (3) develop a rough outline of key content for each broadcast segment, using content learning objectives as a guideline, (4) generate a list of resources (videos, photos, etc.) that could support the segment, (5) discretely determine which experts might be good on camera and involved in the future development process, and (6) determine potential segment team assignments for further content development if casting for an in-studio team is deemed appropriate.

Step Two: Cast the program after the meeting is complete. The producer, host(s), and DLA will meet with appropriate NIC staff soon after the planning meeting——the next day is preferred. Together, the meeting participants will (1) determine and finalize a list of presenters for the program, (2) determine the fields that the presenters should come from and what casting types are needed to cover each segment or content type (if needed), (3)create a cast list, (4) set deadlines for pre-interviewing and recruiting those available on the scheduled dates for the rehearsal and broadcast (Note: Selected talent must be available for both the rehearsal day and the broadcast day in order to participate.), (5) conduct pre-interviews to gather content and make suggestions for on-camera appearances, and (6) work with the DLA and appropriate NIC staff named as on-camera presenters and assign them to specific program segments.

Step Three: Develop content for the broadcast. The producer will schedule a call/video conference with the producer, host(s), DLA, and each segment's small group of presenters; review, revise, and annotate the broadcast outline; generate a further list of resources during the call (The producer may need two calls per segment, but the goal would be one.); and have the DLA sign off on the broadcast's content outline. If the broadcast is a 2-day interactive training broadcast, the producer will work directly with segment teams on the development of their segment outlines, in concert with the NIC DLA, and a designated broadcast curriculum materials developer if applicable.

Step Four: Develop the broadcast programming. The producer, host(s), and/or DLA will (1) outline the program and its elements, including content questions (most segments of each program will be designed so that a host(s) will facilitate each segment, rather than allowing small groups of practitioners to facilitate on their own.); (2) revise outlines and make initial testimonial selections, working from transcripts, acquired clips, and other source materials; (3) work with DLA to identify graphic/visual needs and content; (4) work with production staff to compile support materials (making direct contact with prisons, jails, etc.); (5) work with production staff to develop all graphics and visuals for approval; (6) work with the DLA to review and approve all materials and program development, including standardized intro and outro segments highlighting NIC and its graphic image. If the broadcast is a 2-day interactive training broadcast, the producer will work directly with segment teams on the above items, in concert with the NIC DLA and a designated broadcast curriculum materials developer if applicable.

Step Five: Prepare the broadcast.

The awardee will book one preparation call, in addition to the final run-through Webex with presenters/trainers the week before the cast and crew travel to the shoot location. The call will cover logistics and an overview of the agenda for the 2 days. On rehearsal day (typically, Tuesday morning), the producer will show all broadcast staff and talent the final video clips, graphics, and visuals, etc., and complete a technical run-through of the program. The host(s) and producer will lead staff through the program outline. Note: If the schedule allows, it would be best to have 12 to 14 weeks between each planning meeting and the broadcast. Please refer to “Content Development Countdown” attached to this announcement and also found on NIC's Web site at http://static.nicic.gov/UserShared/2013-02-11_content_dev_countdown_2012_-_for_coop_agree_sol_final_(1).pdf.

Production schedules will overlap to fit all broadcasts within the award period. It is necessary, due to the 12- to 14-week planning development process and minimum of 5 broadcasts (15 hours of broadcast time) to be delivered as part of this award (a combination of 3-hour and/or 2-day, 6 hour [3 hours each day] interactive training broadcasts), that the awardee prepare to provide ample time for one producer to be able to handle multiple projects at once and/or be staffed to provide multiple producers to achieve the scope of work for this agreement. A definitive plan to accomplish this role and function must be included in the proposal.

Pre-Production Video: The producer will supervise the production of vignettes to be used in each of the broadcasts, as well as the vignettes to be produced as stand-alone pieces to support other NIC curriculum projects. There will be twelve to fifteen of these vignettes in all. Content experts (typically, correctional professionals) will draft conceptual outlines of the scripts for each vignette. From these outlines, the producer (or a script writing expert) will develop scripts and have them approved by NIC's DLA. These scripts will be developed and approved in advance of the shoot and will generally use 2 to 4 speaking parts per scene (and additional extras). As topics are determined, the producer will work with the DLA to apportion the shooting days and/or to use those days to produce other equivalent creative elements for each broadcast.

The producer will budget for at least four 10-hour days of vignette shooting, which will include: (1) Professional actors playing the parts designated by the script, (2) a professional video crew, (3) professional quality scenery, props, and wardrobe elements, and (4) broadcast quality lighting and high definition camera gear. It is expected that each shooting day will include 3 to 6 scenes, each resulting in 1 to 4 minutes of screen time.

Additionally, testimonial video footage must be captured well in advance of broadcast delivery dates to ensure ample time for considering the clips for inclusion in the storyboard of a broadcast and to allow sufficient time for editing. These video clips are used in the broadcasts to support the content delivery and to provide transitions/bumps between segments/modules within the broadcast. NIC will provide the raw footage of up to 10 testimonial interviews (approximately 15 minutes each) to the producer for each of the five broadcasts. Testimonial footage will also be captured by the producer from video shoots that NIC will arrange to occur at 2 to 3 relevant correctional and/or criminal justice conferences where targeted audiences will generally convene. The producer will provide the interviewer, camera staff, and any required lighting and audio equipment for each conference testimonial shoot. The format for all field shooting will be either Betacam, DVD Pro Digital, and/or Mini DVD. NIC will also tape testimonial footage to be included in broadcasts at its National Corrections Academy Studio in Aurora, Colorado, and would expect the awardee to edit footage produced for inclusion in relevant broadcasts.

Video Production: Video production for each of the broadcasts and each video vignette for stand-alone projects will consist of videotaping content-related events in the field, editing existing video, and videotaping experts for testimonial presentations. It will also include voiceover, audio, and music, if necessary, for each broadcast or vignette. The awardee will develop a detailed storyboard/rundown for each broadcast. Significant contribution to the development of the storyboard/rundown will come from designated content experts, the talent selected to appear in the broadcasts, and the DLA. The DLA maintains final approval of all storyboards/rundowns, video, and other materials used in any broadcast. Innovative and thought-provoking opening sequences must be produced for each broadcast show open with graphics, video, and music. Show opens will be approximately 45 seconds in length. In addition, the broadcasts will use graphics to enhance viewer learning. Graphic design will be used as packaging for all video roll-ins and carried out through all PowerPoint slides and onscreen graphics.

The producer will coordinate art direction, lighting, set design, props, and furniture for all broadcast segments. Customized set design will be required for each broadcast. The producer will budget for a creative treatment that is unique to each broadcast, which will include simple on-set design elements (e.g., a freestanding door that opens, large scale graphics printed on foam core, lighting effects with customized gobos, thematic prop elements, etc. Each set will include signage, posters, props, and/or other visuals that clearly relate to the content of the broadcast. The producer will organize and supervise the complete production crew on rehearsal and production days.

Production: The awardee's production group will set up and maintain studio lighting, adjust audio, and have a complete production crew for the days and hours set by the DLA for each rehearsal and broadcast. The producer will coordinate art direction, lighting, set design, props, and furniture for all broadcast segments. Customized set design will be required for each broadcast. Each set should include signs, posters, props and/or other visuals that clearly relate to the content of the broadcast. The producer will organize and supervise the complete production crew on rehearsal and production days. A production crew shall include the following: Director, audio operator, video operator, character generator operator, floor director, four camera operators, teleprompter operator, online Internet coordinator, makeup artist (at production time only), and interactive assistance personnel (for fax, email, live online chat, and telephone communications).

Post-Production: The producer oversees the production and editing of a DVD of each broadcast for a final and approved cut by the DLA. Within one week after each broadcast, the awardee will provide the DLA a live and active link to the archived version of the broadcast. Within sixty (60) days after each broadcast, the awardee will provide the DLA five master copies of the edited and approved broadcast. Final file formats should be accessible for Mac, Windows, and mobile/tablet device (e.g., .mov, .mp4, .wmv). These copies must be provided on a single-sided DVD. The broadcast footage will need to be edited to include a splash page that provides an outline/menu of the content of the broadcast by modules, and/or other appropriate categories to assist users in finding specific content in which they may have an interest. Additionally, any original vignettes produced for the broadcast must be included on the DVD. All edits must be approved by the DLA. All final documents and other materials submitted under this project must meet the federal government's requirement for Section 508 accessibility, including those provisions outlined in 1194 Subpart B, Technical Provisions; Subpart C, Functional Performance Criteria; and Subpart D, Documentation and Support. NIC's voluntary product accessibility template (available at www.nicic.gov/GPAT) outlines the agency's minimum criteria for meeting this requirement.

Transmission: The producer will (1) purchase satellite uplink time that will include the footprints of Alaska, Hawaii, the Virgin Islands, and the continental United States; (2) acquire downlink transponder time from Ku band; (3) acquire Internet streaming capacity for up to 1000+ simultaneous downloads for delivery in a variety of formats including Mac, Windows, and mobile/tablet device for each program, (4) schedule and run up to five Internet streaming tests for viewing audience compatibility tests in advance of each scheduled program, and (5) be able to provide closed captioning on the final edited DVD of each production. For each broadcast, the awardee will test the Internet link and streaming. The test should verify connectivity to the site, as well as audio and video quality. The test must occur at least 72 hours prior to the start of the live broadcast. The awardee will provide real-time, live, toll-free telephone support to participant sites or individual participants to address access, connectivity, and quality issues on the day of the live broadcast beginning at least 1 hour in advance of the broadcast and continuing through the broadcast.

Equipment: Applicants must have a minimum of the following equipment: Broadcast studio of approximately 2,000 square feet, with an area for a studio audience of 10 to 20 people; four digital studio cameras (one of which must be an overhead camera with robotic control); chroma key: at least one wall with chroma key capability, along with a digital ultimate keying system, a tape operation facility providing playback/record in various formats, including DVD, Betacam, Betacam SP, SVHS, VHS, U-Matic ¾ and SP, and state-of-the-art editing bay that will be compatible with all platforms used in broadcast; three-dimensional animation with computer graphics; Internet streaming capacity for 1000+ simultaneous downloads in a variety of formats, and Microsoft Media Player-Capture Closed Captioning; archive ability for all satellite/Internet broadcasts from this agreement; computer teleprompter for at least three studio cameras; interruptible fold back or in-ear monitor for all presenters and the moderator/hosts during each live broadcast with individual control from the control room and the DLA; a method for the NIC DLA to receive verbal communications from on-camera talent on the studio floor during rehearsals and during the broadcasts; wireless microphones for each presenter/all talent during the live broadcasts; and microphones for the studio audience at each roundtable (they should be able to pick up audio) during the training program (It is expected that studio audiences will be used in at least four of the live broadcasts.); satellite uplink and transponder: Ku band digital with the footprints of Alaska, Hawaii, Virgin Islands, and the continental United States; Web/Internet equipment for Internet link during live broadcasts with enough capacity to support the broadcasts' expected audience; and portable field equipment (digital video cameras with recording decks, portable lighting kits, microphones [both hand-held and lapel], field monitors, audio mixers, and camera tripods).

Personnel: Applicants must have a minimum of the following qualified personnel: Producer/director; script writer; set designer; lighting designer; audio operator; graphics operator; tape operator; location camera operator; teleprompter operator; clerical/administrative support; makeup artist (as needed during live production); closed caption operator (as needed during production).

Application Requirements: Applications should be concisely written, typed double spaced, and reference the project by the “NIC Opportunity Number” and Title in this announcement. The package must include a cover letter that identifies the audit agency responsible for the applicant's financial accounts, as well as the audit period or fiscal year that the applicant operates under (e.g., July 1 through June 30); a program narrative in response to the statement of work; a budget narrative in response to the statement of work; and a budget narrative explaining projected costs. The following forms must also be included: OMB Standard Form 424, Application for Federal Assistance; OMB Standard Form 424B, Assurances—Non-Construction Programs (These forms are available at http://www.grants.gov) and DOJ/NIC Certification Regarding Lobbying; Debarment, Suspension and other Responsibility Matters; and Drug-Free Workplace Requirements (available at http://www.nicic.gov/Downloads/General/certif-frm.pdf Applications may be submitted in hard copy, or electronically via http://www.grants.gov. If submitted in hard copy, there must be an original and three copies of the full proposal (program and budget narratives, application forms, and assurances). The original should have the applicant's signature in blue ink.

Authority: Pub. L. 93-415.

Funds Available: NIC is seeking the applicant's best ideas regarding accomplishment of the scope of work and the related costs for achieving the goals of this solicitation. Funds may be used only for activities that are linked to the desired outcome of the project.

This project will be a collaborative venture with the NIC Academy Division.

Eligibility of Applicants: An eligible applicant is any public or private agency, educational institution, organization, individual, or team with expertise in the described areas.

Review Considerations: Applications received under this announcement will be subjected to an NIC 3- to 5-member review panel. The criteria for the evaluation of each application will be as follows:

Technical and Programmatic (30%)

Are all elements outlined within the scope of work effectively understood and a description provided of how each element will be addressed? Is there a complete and precise, technically sufficient description of the design and methodology for the required services? Is there a clear statement of how each project deliverable will be accomplished, including major tasks that will lead to achieving the goal, the strategies to be employed, required staffing, and other required resources? Are there any innovative approaches, techniques, or design aspects proposed that will enhance the project?

Organizational (40%)

Does the proposed project staff possess the skills, knowledge, and expertise necessary to complete the tasks, including all of the elements listed within the project scope of work? Does the applicant agency, institution, organization, individual, or team have the organizational capacity to complete all deliverables? If consultants and/or partnerships are proposed, is there a reasonable justification for their inclusion in the project and a clear structure to ensure effective coordination? Does the applicant demonstrate the ability to purchase satellite uplink and Internet streaming with closed captioning? Does the applicant demonstrate the ability to produce vignettes and capture testimonials for each broadcast? Are the proposed project management and staffing plans realistic and sufficient to complete the project within the award period? Is the proposed budget realistic, does it provide sufficient cost detail/narrative, and does it represent good value relative to the anticipated results? Is the applicant able to work within the time constraints outlined in the solicitation?

Past Performance (30%)

Is the applicant experienced in producing live broadcasts, in producing training video to support program and training content, or in capturing video from field locations? Does the applicant have experience writing original, scripted content for broadcast? Has the applicant worked with non-professional actors/talent in the past? Can the applicant provide adequate studio space and all equipment necessary to produce the required deliverables? Does the applicant provide audiovisual examples of past work?

Note: NIC will not award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CRR Web site: www.ccr.gov. A CRR Handbook and worksheet can also be reviewed at the Web site.

Number of Awards: One

NIC Opportunity Number: 13AC02. This number should appear as a reference line in your cover letter, where indicated on Standard Form 424, and on the outside of the envelope in which the application is sent.

Catalog Federal Domestic Assistance Number: 16.601.

Executive Order 12372: This program is not subject to the provisions of Executive Order 12372.

Robert Brown,
Acting Director, National Institute of Corrections.

[FR Doc. 2013-03529 Filed 2-14-13; 8:45 am]

BILLING CODE 4410-36-P